DEPARTMENT OF TRANSPORTATION

Federal Aviation Administration

14 CFR Part 39

[Docket No. FAA-2007-29249; Directorate Identifier 2007-NM-112-AD; Amendment 39-15294; AD 2007-25-12]

RIN 2120-AA64

Airworthiness Directives; Airbus Model A318, A319, A320, and A321 Series Airplanes

AGENCY: Federal Aviation Administration (FAA), Department of Transportation (DOT).

ACTION: Final rule; correction.

SUMMARY: The FAA is correcting a typographical error in an existing airworthiness directive (AD) that was published in the Federal Register on December 10, 2007 (72 FR 69593). The error resulted in a potential for confusion regarding the applicability of the AD. This AD applies to certain Airbus Model A318, A319, A320, and A321 series airplanes. This AD requires inspections of the landing gear (LG) selector valve 40GA and the LG door selector valve 41GA, to identify a possible hydraulic leak. The corrective action includes replacing the LG selector valve 40GA and/or the LG door selector valve 41GA if necessary.

DATES: Effective January 14, 2008.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tim Dulin, Aerospace Engineer, International Branch, ANM-116, FAA, Transport Airplane Directorate, 1601 Lind Avenue, SW., Renton, Washington 98057-3356; telephone (425) 227-2141; fax (425) 227-1149.

SUPPLEMENTARY INFORMATION: On November 21, 2007, the FAA issued AD 2007-25-12, amendment 39-15294 (72 FR 69593, December 10, 2007), for certain Airbus Model A318, A319, A320, and A321 series airplanes. The AD requires inspections of the landing gear (LG) selector valve 40GA and the LG door selector valve 41GA, to identify a possible hydraulic leak. The corrective action includes replacing the LG selector valve 40GA and/or the LG door selector valve 41GA if necessary.

As published, the AD applies to airplanes identified in paragraphs (c)(1) “and” (c)(2) of this AD instead of those identified in paragraph (c)(1) “or” (c)(2) of this AD.

This change is relieving in nature, and no other part of the regulatory information has been changed; therefore, the final rule is not republished in the Federal Register.

The effective date of this AD remains January 14, 2008.

§ 39.13 [Corrected]

In the Federal Register of December 10, 2007, on page 69594, in the second column, paragraph (c) of AD 2007-25-12 is corrected to read as follows:

* * * * *

(c) This AD applies to Airbus Model A318, A319, A320, and A321 series airplanes, certificated in any category, except those identified in paragraph (c)(1) or (c)(2) of this AD.

* * * * *

Issued in Renton, Washington, on February 25, 2008.
Ali Bahrami,
Manager, Transport Airplane Directorate, Aircraft Certification Service.

[FR Doc. E8-3930 Filed 2-29-08; 8:45 am]

BILLING CODE 4910-13-P